DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Current Industrial Reports (Wave II Voluntary).

Form Number(s): M327G, M331J, MQ311A, MQ325A, MQ325C, MQ325F, MQ335C, MA311D, MA333N, and MA335L.

Agency Approval Number: 0607-0206.

Type of Request: Revision of a currently approved collection.

Burden: 3,779 hours.

Number of Respondents: 2,723.

Avg Hours Per Response: 1.39.

Needs and Uses: The Census Bureau conducts a series of monthly, quarterly, and annual surveys as part of the Current Industrial Reports (CIR) program. The CIR program focuses primarily on the quantity and value of shipments of particular products and occasionally with data on production and inventories; unfilled orders, receipts, stocks and consumption; and comparative data on domestic production, exports, and imports of the products they cover. Government agencies, business firms, trade associations, and private research and consulting organizations use these data to make trade policy, production, and investment decisions.

Due to the large number of surveys conducted in the CIR program, for clearance purposes, the CIR surveys are divided into “waves.” There are three waves and each wave contains a voluntary and mandatory clearance package, making 6 separate clearances. Each year, one wave (2 clearance packages) is submitted for review. Counterpart forms were added to supplement some monthly and quarterly surveys to collect annual information on a mandatory basis from respondents not participating in the more frequent voluntary collections. In this request, we are discontinuing MQ316A, “Footwear,” due to budgetary reductions.

Affected Public: Business or other for-profit organizations.

Frequency: Quarterly, Monthly, and Annually.

Respondent's Obligation: Voluntary—monthly, quarterly, and annually; Mandatory (Annual Counterpart).

Legal Authority: Title 13, United States Code, Sections 182, 224, and 225.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 3, 2001.
Madeleine Clayton,
Departmental Paperwork Clearance Officer, Office of the Chief Information Officer.

[FR Doc. 01-17030 Filed 7-6-01; 8:45 am]

BILLING CODE 3510-07-P